DEPARTMENT OF HOMELAND SECURITY

Federal Emergency Management Agency

[Docket ID FEMA-2015-0001; Internal Agency Docket No. FEMA-B-1508]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Date: April 22, 2015.
Roy E. Wright,
Deputy Associate Administrator for Mitigation, Department of Homeland Security, Federal Emergency Management Agency.

State and county | Location and case No. | Chief executive officer of community | Community map repository | Online location of letter of map revision | Effective date of modification | Community No.
Alabama:
Madison | City of Huntsville (15-04-0198P) | The Honorable Tommy Battle, Mayor, City of Huntsville, 308 Fountain Circle, Huntsville, AL 35801 | Engineering Department, 308 Fountain Circle, Huntsville, AL 35801 | http://www.msc.fema.gov/lomc | Jul. 6, 2015 | 010153
Madison | Unincorporated areas of Madison County (15-04-0198P) | The Honorable Dale W. Strong, Chairman, Madison County Commission, 100 Northside Square, Huntsville, AL 35801 | Madison County Engineering Building, 266-C Shields Road, Huntsville, AL 35811 | http://www.msc.fema.gov/lomc | Jul. 6, 201 | 010151
California:
Colusa | City of Williams (14-09-4496P) | The Honorable John J. Troughton, Jr., Mayor, City of Williams, P.O. Box 310, Williams, CA 95987 | City Hall, 810 E Street, Williams, CA 95987 | http://www.msc.fema.gov/lomc | Jul. 2, 2015 | 060024
Colusa | Unincorporated areas of Colusa County (14-09-4438P) | The Honorable Mark D. Marshall, Chairman, Colusa County Board of Supervisors, 547 Market Street, Suite 102, Colusa, CA 95932 | Colusa County Department of Public Works, 1215 Market Street, Colusa, CA 95932 | http://www.msc.fema.gov/lomc | Jul. 2, 2015 | 060022
Colusa | Unincorporated areas of Colusa County (14-09-4496P) | The Honorable Mark D. Marshall, Chairman, Colusa County Board of Supervisors, 547 Market Street, Suite 102, Colusa, CA 95932 | Colusa County Department of Public Works, 1215 Market Street, Colusa, CA 95932 | http://www.msc.fema.gov/lomc | Jul. 2, 2015 | 060022
Riverside | Unincorporated areas of Riverside County (15-09-0813P) | The Honorable Marion Ashley, Chairman, Riverside County Board of Supervisors, 4080 Lemon Street, 5th Floor, Riverside, CA 92501 | Riverside County Flood Control and Water Conservation District, 1995 Market Street, Riverside, CA 92501 | http://www.msc.fema.gov/lomc | Jun. 8, 2015 | 060245
San Diego | Unincorporated areas of San Diego County (14-09-4435P) | The Honorable Dianne Jacob, Chair, San Diego County Board of Supervisors, 1600 Pacific Highway, Room 335, San Diego, CA 92101 | San Diego County Department of Public Works, Flood Control District, 5510 Overland Avenue, Suite 401, San Diego, CA 92123 | http://www.msc.fema.gov/lomc | Jun. 19, 201 | 06028
Colorado:
Denver | City and County of Denver (15-08-0320P) | The Honorable Michael B. Hancock, Mayor, City and County of Denver, 1437 Bannock Street, Suite 350, Denver, CO 80202 | Department of Public Works, 201 West Colfax Avenue, Denver, CO 80202 | http://www.msc.fema.gov/lomc | Jun. 19, 201 | 08004
Denver | City and County of Denver (15-08-0321P) | The Honorable Michael B. Hancock, Mayor, City and County of Denver, 1437 Bannock Street, Suite 350, Denver, CO 80202 | Department of Public Works, 201 West Colfax Avenue, Denver, CO 80202 | http://www.msc.fema.gov/lomc | Jun. 19, 201 | 080046
Douglas | Unincorporated areas of Douglas County (14-08-0892P) | The Honorable Jill Repella, Chair, Douglas County Board of Commissioners, 100 3rd Street, Castle Rock, CO 80104 | Douglas County Public, Works Department,, Engineering Division, 100 3rd Street, Castle Rock, CO 80104 | http://www.msc.fema.gov/lomc | Jun. 12, 201 | 08004
Florida:
Alachua | Unincorporated areas of Alachua County (15-04-0356P) | The Honorable Lee Pinkoson, Chairman, Alachua County Board of Commissioners, P.O. Box 5547, Gainesville, FL 32627 | Alachua County Public Works Department, 5620 Northwest 120th Lane, Gainesville, FL 32653 | http://www.msc.fema.gov/lomc | Jul. 3, 201 | 12000
Charlotte | Unincorporated areas of Charlotte County (15-04-1137P) | The Honorable Bill Truex, Chairman, Charlotte County Board of Commissioners, 18500 Murdock Circle, Port Charlotte, FL 33948 | Charlotte County Community Development Department, 18500 Murdock Circle, Port Charlotte, FL 33948 | http://www.msc.fema.gov/lomc | Jun. 19, 201 | 12006
Collier | City of Marco Island (15-04-1069P) | The Honorable Larry Sacher, Chairman, City of Marco Island Council, 50 Bald Eagle Drive, Marco Island, FL 34145 | City Hall, 50 Bald Eagle Drive, Marco Island, FL 34145 | http://www.msc.fema.gov/lomc | Jun. 19, 201 | 12042
Collier | Unincorporated areas of Collier County (14-04-A504P) | The Honorable Tom Henning, Chairman, Collier County Board of Commissioners, 3299 Tamiami Trail East, Suite 303, Naples, FL 34112 | Collier County Administrative Building, 3301 East Tamiami Trail, Building F, 1st Floor, Naples, FL 34112 | http://www.msc.fema.gov/lomc | May 12, 201 | 12006
Marion | City of Ocala (14-04-6358P) | The Honorable Kent Guinn, Mayor, City of Ocala, 110 Southeast Watula Avenue, Ocala, FL 34471 | Engineering Department, 405 Southeast Osceola Avenue, Ocala, FL 34478 | http://www.msc.fema.gov/lomc | Jun. 25, 201 | 120330
Monroe | City of Key West (14-04-A505P) | The Honorable Craig Cates, Mayor, City of Key West, 3126 Flagler Avenue, Key West, FL 33040 | Planning Department, 605A Simonton Street, Key West, FL 33040 | http://www.msc.fema.gov/lomc | Jun. 5, 201 | 12016
Pinellas | City of Clearwater (14-04-A506P) | The Honorable George N. Cretekos, Mayor, City of Clearwater, P.O. Box 4748, Clearwater, FL 33758 | Public Works Department, 100 South Myrtle Avenue, Suite 220, Clearwater, FL 33758 | http://www.msc.fema.gov/lomc | Jun. 25, 201 | 12509
Seminole | City of Longwood (15-04-0949P) | The Honorable John Maingot, Mayor, City of Longwood, 175 West Warren Avenue, Longwood, FL 32750 | City Hall, 175 West Warren Avenue, Longwood, FL 32750 | http://www.msc.fema.gov/lomc | Jun. 19, 201 | 12029
Georgia: Columbia | Unincorporated areas of Columbia County (15-04-0305P) | The Honorable Ron Cross, Chairman, Columbia County Board of Commissioners, P.O. Box 498, Evans, GA 30809 | Columbia County Planning Services Division, 603 Ronald Reagan Drive, Building B, Evans, GA 30809 | http://www.msc.fema.gov/lomc | Jun. 19, 201 | 13005
Kentucky:
Kenton | City of Covington (15-04-2329P) | The Honorable Sherry Carran, Mayor, City of Covington, 20 West Pike Street, Covington, KY 41011 | City Hall, 20 West Pike Street, Covington, KY 41011 | http://www.msc.fema.gov/lomc | Jun. 19, 201 | 21012
Kenton | City of Fort Wright (15-04-2329P) | The Honorable Joseph Nienaber, Jr., Mayor, City of Fort Wright, 409 Kyles Lane, Fort Wright, KY 41011 | City Hall, 409 Kyles Lane, Fort Wright, KY 41011 | http://www.msc.fema.gov/lomc | Jun. 19, 201 | 21024
New York: Suffolk | Town of Brookhaven (15-02-0307P) | The Honorable Edward P. Romaine, Town of Brookhaven Supervisor, 1 Independence Hill, Farmingville, NY 11738 | Town Hall, 1 Independence Hill, Farmingville, NY 11738 | http://www.msc.fema.gov/lomc | Jul. 16, 201 | 36533
North Carolina:
Columbus | Unincorporated areas of Columbus County (14-04-6649P) | The Honorable Trent Burroughs, Chairman, Columbus County Board of Commissioners, 111 Washington Street, Whiteville, NC 28472 | Columbus County Planning Department, 111 Washington Street, Whiteville, NC 28472 | http://www.msc.fema.gov/lomc | May 5, 201 | 37030
Guilford | City of Greensboro (14-04-9100P) | The Honorable Nancy Vaughan, Mayor, City of Greensboro, P.O. Box 3136, Greensboro, NC 27402 | Central Library, 219 North Church Street, Greensboro, NC 27401 | http://www.msc.fema.gov/lomc | Jun. 26, 201 | 375351
Union | Town of Weddington (14-04-7777P) | The Honorable Bill Deter, Mayor, Town of Weddington, 1924 Weddington Road, Weddington, NC 28104 | Planning Department, 1924 Weddington Road, Weddington, NC 28104 | http://www.msc.fema.gov/lomc | Jun. 22, 201 | 37051
Union | Unincorporated areas of Union County (14-04-7777P) | The Honorable Richard Helms, Chairman, Union County Board of Commissioners, 500 North Main Street, Room 921, Monroe, NC 28112 | Union County Planning Department, 500 North Main Street, Monroe, NC 28112 | http://www.msc.fema.gov/lomc | Jun. 22, 201 | 37023
Wake | City of Raleigh (14-04-8341P) | The Honorable Nancy McFarlane, Mayor, City of Raleigh, P.O. Box 590, Raleigh, NC 27602 | Public Works Department, 222 West Hargett Street, Raleigh, NC 27601 | http://www.msc.fema.gov/lomc | Jun. 26, 201 | 37024
Wake | Unincorporated areas of Wake County (14-04-8341P) | The Honorable James West, Chairman, Wake County Board of Commissioners, P.O. Box 550, Raleigh, NC 27602 | Wake County Environmental Services Department, 336 Fayetteville Street, Raleigh, NC 27602 | http://www.msc.fema.gov/lomc | Jun. 26, 201 | 37036
South Carolina: Charleston | City of Charleston (15-04-0605P) | The Honorable Joseph P. Riley, Jr., Mayor, City of Charleston, P.O. Box 652, Charleston, SC 29402 | Engineering Department, 75 Calhoun Street Division 301, Charleston, SC 29402 | http://www.msc.fema.gov/lomc | Jun. 19, 201 | 45541
Utah:
Davis | City of Farmington (15-08-0034P) | The Honorable Jim Talbot, Mayor, City of Farmington, 160 South Main, Farmington, UT 84025 | GIS Department, 1600 South Main, Farmington, UT 84025 | http://www.msc.fema.gov/lomc | Jun. 26, 201 | 49004
Davis | City of Fruit Heights (14-08-1211P) | The Honorable Don Carroll, Mayor, City of Fruit Heights, 910 South Mountain Road, Fruit Heights, UT 84037 | City Hall, 910 South Mountain Road, Fruit Heights, UT 84307 | http://www.msc.fema.gov/lomc | Jun. 5, 201 | 49004
Davis | City of Kaysville (14-08-1178P) | The Honorable Steve A. Hiatt, Mayor, City of Kaysville, 23 East Center Street, Kaysville, UT 84037 | City Hall, 23 East Center Street, Kaysville, UT 84037 | http://www.msc.fema.gov/lomc | Jun. 5, 201 | 49004
Davis | City of Kaysville (14-08-1211P) | The Honorable Steve A. Hiatt, Mayor, City of Kaysville, 23 East Center Street, Kaysville, UT 84037 | City Hall, 23 East Center Street, Kaysville, UT 84037 | http://www.msc.fema.gov/lomc | Jun. 5, 201 | 49004
Washington | Town of Springdale (14-08-1247P) | The Honorable Stan Smith, Mayor, Town of Springdale, 118 Lion Boulevard, Springdale, UT 84767 | Planning and Zoning Department, 118 Lion Boulevard, Springdale, UT 84767 | http://www.msc.fema.gov/lomc | May 22, 201 | 490179

[FR Doc. 2015-10535 Filed 5-5-15; 8:45 am]

BILLING CODE 9110-12-P